DEPARTMENT OF AGRICULTURE

Agricultural Marketing Service

[Doc. No. AMS-SC-23-0073]

Request for Information Specialty Crops Competitiveness Initiative

AGENCY: Agricultural Marketing Service, U.S. Department of Agriculture, (USDA).

ACTION: Request for information.

SUMMARY: The U.S. Department of Agriculture (USDA) is seeking input from stakeholders across the specialty crops industry on how USDA may better administratively support the industry in remaining competitive in domestic and international marketplaces, as part of USDA's Specialty Crops Competitiveness Initiative. This input will strengthen USDA's partnership with the specialty crops industry, an agricultural sector that has faced significant challenges due to recent natural disasters, pandemic-related market disruptions, and other factors. USDA requests input on how to further support the industry's domestic marketing and consumption, to further support the industry's competitiveness internationally, to further support research that will serve the industry, to increase producers' awareness of and access to relevant USDA programs, to enhance USDA programs that serve the specialty crops industry, to aid the evaluation of existing programs, and to understand current and future challenges faced by the industry. USDA is asking for comments on interactions with USDA programs. All comments will be aggregated, summarized, and shared with USDA Leadership.

DATES: Comments must be received by March 8, 2024 to be assured of consideration.

ADDRESSES: Interested persons are invited to submit comments concerning this notice by either of the following methods:

• Federal Rulemaking Portal: Go to https://www.regulations.gov and search for Docket ID AMS-SC-23-0073. Follow the instructions for submitting comments. Comments should reference the document number and the date and page number of this issue of the Federal Register.

• Email: Please submit any email responses to SCCIPartners@usda.gov in the body of an email or as a Word or PDF attachment. Include “SCCI RFI” in the subject line of the email.

All comments submitted in response to this notice will be included in the record, will be made available to the public, and can be viewed at: https://www.regulations.gov. Please be advised that the identity of the individuals or entities submitting the comments will be made available to the public on the internet at the address provided above.

FOR FURTHER INFORMATION CONTACT: Heather M. Pichelman, Agricultural Marketing Service, Specialty Crops Program, Email: heather.pichelman@usda.gov or Telephone: (202) 720-4722.

SUPPLEMENTARY INFORMATION: USDA has heard growing concern from the specialty crops industry regarding their ability to remain competitive. Although the specialty crops industry includes a wide array of commodities, the challenges facing their markets are similar. USDA is actively partnering with specialty crops growers to increase the competitiveness of U.S. products in domestic and international markets, minimize costs, manage pests and diseases, strengthen supply chains, and support climate outcomes.

In direct response to the industry's request for support, USDA launched the Specialty Crops Competitiveness Initiative (SCCI). The goal of SCCI is to provide increased support to the specialty crops industry by identifying industry needs and taking appropriate available administrative action.

This Request for Information (RFI) is part of the SCCI initiative, to provide stakeholders the opportunity to submit feedback on the industry's needs and to provide information on how USDA can better administratively support the U.S. specialty crops industry to remain competitive.

The SCCI is just one of multiple efforts across the Federal government to support the industry. On October 17, 2023, the United States Trade Representative (USTR) published in the Federal Register, the “Notice of Establishment and Request for Nominations for the Seasonal and Perishable Agricultural Products Advisory Committee” (88 FR 71638). This Committee, established by USTR and USDA, intends to provide advice and recommendations in connection with U.S. trade policy that concern administrative actions and legislation that would promote the competitiveness of Southeastern U.S. producers of seasonal and perishable agricultural products. Whereas this Committee will be focused on a specific geographic U.S. region and on seasonal and perishable fruits and vegetables, the SCCI will have a nationwide focus on the needs of all specialty crops stakeholders to remain competitive in both domestic and international markets under USDA's purview.

Interested persons can refer to the new USDA web page at https://www.usda.gov/specialty.crops, which contains a comprehensive snapshot of USDA's resources and services relevant to specialty crops producers and businesses. The focus of this request is to collect feedback on existing USDA programs and how they might be improved, not on new programs that require legislative action to implement.

Upon collection of feedback from the industry through this RFI and stakeholder meetings and events, a gap analysis will be conducted to address where USDA services can be enhanced to better support the specialty crops industry. Outcomes of the feedback will be communicated back to the specialty crops industry to continue to build awareness of USDA's support for the industry.

USDA is seeking feedback on all its services for the industry. Respondents may provide information for one or more of the questions or topics listed below, as desired. Additionally, respondents may provide commodity-specific or geographic-specific input on Department services for specialty crops.

How can USDA administratively support specialty crop producers to enhance domestic marketing and increase consumption of domestically grown specialty crops?

How can USDA administratively support specialty crop producers to improve their export performance to increase competitiveness of U.S. specialty crops in foreign markets?

What research is needed to minimize costs and maximize returns to support the production and processing of specialty crops? What kind of research (spanning production, transportation, handling, or beyond) could USDA enhance or adapt to support the specialty crop industry?

How could existing USDA specialty crops farm programs be adapted to address current and future challenges faced by the specialty crops industry?

How could USDA increase awareness of available tools and resources to support broader participation and engagement by the specialty crops industry?

How could USDA enhance or adapt currently offered programs (loans, grants, nutrition programs, conservation programs, insurance programs, food safety programs, pest management programs, etc.) to support the specialty crops industry to increase its competitiveness?

How could USDA enhance or adapt procurement to support the specialty crops industry?

Please share any ongoing or anticipated challenges in the specialty crops industry that impact your ability to maintain competitiveness.

Please share any non-financial resources that would be useful to improve the specialty crop industry's competitiveness.

Erin Morris,
Associate Administrator, Agricultural Marketing Service.

[FR Doc. 2023-24715 Filed 11-8-23; 8:45 am]

BILLING CODE P